DEPARTMENT OF ENERGY

Federal Energy Regulatory Commission

Sunshine Act Meeting Notices

TIME AND DATE: February 17, 2022, 10:00 a.m.

PLACE: Open to the public via audio Webcast only. Join FERC online to listen live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1087th—Meeting, Open Meeting
[February 17, 2022 10:00 am]
Item No. | Docket No. | Company
ADMINISTRATIVE
A-1 | AD22-1-000 | Agency Administrative Matters.
A-2 | AD22-2-000 | Customer Matters, Reliability, Security and Market Operations.
ELECTRIC
E-1 | AD22-5-000 | Implementation of Dynamic Line Ratings.
E-2 | ER20-1718-002 | New York Independent System Operator, Inc.
E-3 | ER20-1068-003 | The Dayton Power and Light Company.
E-4 | EL19-47-002 | Independent Market Monitor for PJM v. PJM Interconnection, L.L.C.
| EL19-63-002 (Consolidated) | Office of the People's Counsel for District of Columbia, Delaware Division of the Public Advocate, Citizens Utility Board, Indiana Office of Utility Consumer Counselor, Maryland Office of People's Counsel, Pennsylvania Office of Consumer Advocate, West Virginia Consumer Advocate Division, and PJM Industrial Customer Coalition v. PJM Interconnection, L.L.C.
| ER21-2877-001, ER21-2444-001 (Not consolidated) | PJM Interconnection, L.L.C.
E-5 | ER21-2900-000, ER21-2900-001, ER21-2900-002, ER21-2900-003 | Duke Energy Carolinas, LLC.
E-6 | EL22-26-000, ER22-957-000 | PJM Interconnection, L.L.C.
E-7 | ER18-1702-002 | Southwest Power Pool, Inc.
E-8 | EL17-21-001 | Kansas Electric Power Cooperative, Inc. v. Southwest Power Pool, Inc.
E-9 | EL18-9-001 | Xcel Energy Services Inc. v. Southwest Power Pool, Inc.
E-10 | ER20-2550-003 | Entergy Mississippi, LLC.
E-11 | OMITTED
E-12 | ER21-1802-000 | PJM Interconnection, L.L.C.
E-13 | EC21-125-000 | PSEG New Haven LLC, PSEG Power Connecticut LLC, PSEG Power New York LLC, and Generation Bridge II, LLC.
| EC21-128-000 | PSEG Fossil LLC, PSEG Fossil Sewaren Urban Renewal LLC, PSEG Keys Energy Center LLC, PSEG Energy Resources & Trade LLC, Parkway Generation, LLC, and Parkway Generation Essex, LLC.
GAS
G-1 | AD22-7-000 | Oil Pipeline Capacity Allocation Issues and Anomalous Conditions.
G-2 | RP21-1187-002, RP21-1187-003 | Eastern Gas Transmission and Storage, Inc.
HYDRO
H-1 | P-10853-022 | Otter Tail Power Company.
H-2 | P-2101-178 | Sacramento Municipal Utility District.
H-3 | P-2197-140 | Cube Yadkin Generation LLC.
H-4 | P-2997-032 | South Sutter Water District.
Certificates
C-1 | PL18-1-000 | Certification of New Interstate Natural Gas Facilities.
C-2 | PL21-3-000 | Consideration of Greenhouse Gas Emissions in Natural Gas Infrastructure Project Reviews.
C-3 | CP17-40-012 | Spire STL Pipeline LLC.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: February 10, 2022.
Kimberly D. Bose,
Secretary.

[FR Doc. 2022-03332 Filed 2-11-22; 4:15 pm]

BILLING CODE 6717-01-P